DEPARTMENT OF DEFENSE

GENERAL SERVICES ADMINISTRATION

NATIONAL AERONAUTICS AND SPACE ADMINISTRATION

[OMB Control No. 9000-0078; Docket No. 2019-0003; Sequence No. 25]

Information Collection; Certain Federal Acquisition Regulation Part 15 Requirements

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on a revision and renewal concerning certain Federal Acquisition Regulation part 15 requirements. DoD, GSA, and NASA invite comments on: Whether the proposed collection of information is necessary for the proper performance of the functions of Federal Government acquisitions, including whether the information will have practical utility; the accuracy of the estimate of the burden of the proposed information collection; ways to enhance the quality, utility, and clarity of the information to be collected; ways to minimize the burden of the information collection on respondents, including the use of automated collection techniques or other forms of information technology; and whether the proposed consolidation of the information collections is problematic. OMB has approved this information collection for use through July 31, 2019. DoD, GSA, and NASA propose that OMB extend its approval for use for three additional years beyond the current expiration date.

DATES: DoD, GSA, and NASA will consider all comments received by August 20, 2019.

ADDRESSES: DoD, GSA, and NASA invite interested persons to submit comments on this collection by either of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Lois Mandell/IC 9000-0078, Certain Federal Acquisition Regulation Part 15 Requirements.

Instructions: All items submitted must cite Information Collection 9000-0078, Certain Federal Acquisition Regulation Part 15 Requirements. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Zenaida Delgado, Procurement Analyst, at telephone 202-969-7207, or zenaida.delgado@gsa.gov.

SUPPLEMENTARY INFORMATION:

A. OMB Control Number, Title, and Any Associated Form(s)

9000-0078, Certain Federal Acquisition Regulation Part 15 Requirements.

B. Need and Uses

DoD, GSA, and NASA are in the process of combining OMB control numbers for the Federal Acquisition Regulation (FAR) by FAR part. This consolidation is expected to improve industry's ability to easily and efficiently identify all burdens associated with a given FAR part. The review of the information collections by FAR part allows improved oversight to ensure there is no redundant or unaccounted for burden placed on industry. Lastly, combining information collections in a given FAR part is also expected to reduce the administrative burden associated with processing multiple information collections.

This justification supports revision and extension of the expiration date of OMB control number 9000-0078 and combines it with the previously approved information collections OMB control numbers 9000-0115 and 9000-0173, with the new title “Certain Federal Acquisition Regulation Part 15 Requirements”. Upon approval of this consolidated information collection, OMB control numbers 9000-0115 and 9000-0173 will be discontinued. The burden requirements previously approved under the discontinued numbers will be covered under OMB control number 9000-0078.

This clearance covers the information that offerors/contractors must submit to comply with the following FAR requirements:

1. 15.407-2(e), Make-or-buy programs. When prospective contractors are required to submit proposed make-or-buy program plans for negotiated acquisitions, paragraph (e) requires the following information in their proposal: A description of each major item or work effort; categorization of each major item or work effort as “must make,” “must buy, or “can either make or buy;” for each item or work effort categorized as “can either make or buy,” a proposal either to “make” or to “buy;” reasons for categorizing items and work efforts as “must make” or “must buy,” and proposing to “make” or to “buy” those categorized as “can either make or buy;” designation of the plant or division proposed to make each item or perform each work effort, and a statement as to whether the existing or proposed new facility is in or near a labor surplus area; identification of proposed subcontractors, if known, and their location and size status; any recommendations to defer make-or-buy decisions when categorization of some items or work efforts is impracticable at the time of submission; and any other information the contracting officer requires in order to evaluate the program.

2. 52.215-9, Changes or Additions to Make-or-Buy Program. This clause requires the contractor to submit, in writing, for the contracting officer's advance approval a notification and justification of any proposed change in the make-or-buy program incorporated in the contract.

3. 52.215-19, Notification of Ownership Changes. This clause requires contractors to notify the administrative contracting officer when the contractor becomes aware that a change in its ownership has occurred, or is certain to occur, that could result in changes in the valuation of its capitalized assets in the accounting records. Notice of changes of ownership are necessary to adequately administer the cost principle at FAR 31.205-52, Asset valuations, which addresses the allowability of certain costs resulting from asset valuations following business combinations.

4. 52.215-22, Limitations on Pass-Through Charges—Identification of Subcontract Effort. This provision requires offerors submitting a proposal for a contract, task order, or delivery order to provide the following information with their proposal: (1) The total cost of the work to be performed by the offeror, and the total cost of the work to be performed by each subcontractor; (2) if the offeror intends to subcontract more than 70 percent of the total cost of work to be performed, the amount of the offeror's indirect costs and profit/fee applicable to the work to be performed by the subcontractor(s), and a description of the value added by the offeror as related to the work to be performed by the subcontractor(s); and (3) if any subcontractor proposed intends to subcontract to a lower-tier subcontractor more than 70 percent of the total cost of work to be performed the amount of the subcontractor's indirect costs and profit/fee applicable to the work to be performed by the lower-tier subcontractor(s), and a description of the added value provided by the subcontractor as related to the work to be performed by the lower-tier subcontractor(s).

5. 52.215-23, Limitations on Pass-Through Charges. This clause requires contractors to provide a description of the value added by the contractor or subcontractor, as applicable, as related to the subcontract effort if this effort changes from the amount identified in the proposal such that it exceeds 70 percent of the total cost of work to be performed. The following contract types are excluded from this information collection requirement: A firm-fixed-price contract awarded on the basis of adequate price competition; a fixed-price contract with economic price adjustment awarded on the basis of adequate price competition; a firm-fixed-price contract for the acquisition of a commercial item; a fixed-price contract with economic price adjustment, for the acquisition of a commercial item; a fixed-price incentive contract awarded on the basis of adequate price competition; or a fixed-price incentive contract for the acquisition of a commercial item.

C. Annual Reporting Burden

Respondents/Recordkeepers: 4,653.

Total Annual Responses: 29,953.

Total Burden Hours: 62,241 (62,236 reporting hours + 5 recordkeeping hours).

Affected Public: Businesses or other for-profit and not-for-profit institutions.

Frequency: On occasion.

Obtaining Copies: Requesters may obtain a copy of the information collection documents from the General Services Administration, Regulatory Secretariat Division (MVCB), 1800 F Street NW, Washington, DC 20405, telephone 202-501-4755.

Please cite OMB control number 9000-0078, Certain Federal Acquisition Regulation Part 15 Requirements, in all correspondence.

Dated: June 17, 2019.
Janet Fry,
Director, Federal Acquisition Policy Division, Office of Governmentwide Acquisition Policy, Office of Acquisition Policy, Office of Governmentwide Policy.

[FR Doc. 2019-13140 Filed 6-20-19; 8:45 am]

BILLING CODE 6820-EP-P